ENVIRONMENTAL PROTECTION AGENCY

[EPA-HQ-OAR-2016-0027; FRL-9942-40-OAR]

Agency Information Collection Activities: Information Collection Request (ICR) for On-Highway Motorcycle Certification and Compliance Program; EPA ICR Number 2535.01, OMB Control Number-2060-NEW

AGENCY: Environmental Protection Agency (EPA).

ACTION: Notice.

SUMMARY: The Environmental Protection Agency (EPA) is planning to submit an Information Collection Request (ICR) for on-highway motorcycle emissions certification and compliance” to the Office of Management and Budget (OMB) for review and approval in accordance with the Paperwork Reduction Act (44 U.S.C. 3501 et seq.). Before submitting the ICR to OMB for review and approval, EPA is soliciting comments on specific aspects of the proposed information collection as described below. The current ICR, under which on-highway motorcycles are included, is scheduled to expire on September 30, 2016. An agency may not conduct or sponsor and a person is not required to respond to a collection of information unless it displays a currently valid OMB control number.

DATES: Comments must be submitted on or before April 12, 2016.

ADDRESSES: Submit your comments, referencing docket ID number OAR-2016-0027, to EPA online using EDOCKET (our preferred method), by email to a-and-rdocket@epamail.epa.gov, or by mail to: EPA Docket Center, Environmental Protection Agency, Air and Radiation Docket, Environmental Protection Agency, Mailcode: 6102T, 1200 Pennsylvania Ave. NW., Washington, DC 20460.

FOR FURTHER INFORMATION CONTACT: Julian Davis, Environmental Protection Agency, 2000 Traverwood, Ann Arbor MI 48105; telephone number: (734) 214-4029; fax number: (734) 214-4869; email address: davis.julian@epa.gov.

SUPPLEMENTARY INFORMATION: EPA has established a public docket for this ICR under Docket ID number OAR-2016-0027, which is available for public viewing at the Air and Radiation Docket in the EPA Docket Center (EPA/DC), EPA West, Room B102, 1301 Constitution Ave. NW., Washington, DC. The EPA Docket Center Public Reading Room is open from 8:30 a.m. to 4:30 p.m., Monday through Friday, excluding legal holidays. The telephone number for the Reading Room is (202) 566-1744, and the telephone number for the Air and Radiation Docket is (202) 566-1744. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above. Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are on-highway motorcycle manufacturers and importers.

Title: Information Collection Request (ICR) for On-Highway Motorcycle Certification and Compliance Program.

Abstract: Under the Clean Air Act (42 U.S.C. 7521 et seq.) manufacturers and importers of on-highway motorcycles must have a certificate of conformity issued by EPA covering any vehicle they intend to offer for sale in the United States. A certificate of conformity represents that the respective vehicle conforms to all applicable emissions requirements. In issuing a certificate of conformity, EPA reviews vehicle information and emissions test data to determine if the required testing has been performed and the required emissions levels have been demonstrated. After a certificate of conformity has been issued, the Agency may request additional information to verify that the product continues to meet its certified emissions standards throughout its useful life. An agency may not conduct or sponsor, and a person is not required to respond to, a collection of information unless it displays a currently valid OMB control number. The OMB control numbers for EPA's regulations in 40 CFR are listed in 40 CFR part 9. The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

EPA will consider the comments received and amend the ICR as appropriate. The final ICR package will then be submitted to OMB for review and approval. At that time, EPA will issue another Federal Register notice to announce the submission of the ICR to OMB and the opportunity to submit additional comments to OMB.

The current ICR for on-highway motorcycle emissions certification and compliance information is set to expire on September 30, 2016. This program was previously included under the current ICR for light-duty vehicle emissions certification and in-use testing [EPA ICR No. 0783.62, OMB Control No. 2060-0104].

Burden Statement: EPA estimates that 74 respondents will submit information each year spending a total of 542,118 hours and incurring an annualized cost of 10.9 million dollars. The average burden per respondent varies greatly; it is a function of the diversity of the products produced or imported. (A large, diversified motor vehicle manufacturer will have a much greater burden than a small importer of a few identical vehicles.) Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are on-highway motorcycles manufacturers and importers.

Estimated Number of Respondents: 74.

Frequency of Response: Quarterly and annually.

Estimated Total Annual Hour Burden: 3,594.

Estimated Total Annual Cost: $386,088, which includes $151,150 annualized operation and maintenance costs, $113,834 annualized capital/startup costs, and $168,614 annual labor costs. These estimates reflect an update to the previous cost estimates for on-highway motorcycles previously culled and compiled for the current ICR for light-duty vehicle emissions certification and in-use testing.

Dated: February 8, 2016.
Byron J. Bunker,
Director, Compliance Division, Office of Transportation and Air Quality, Office of Air and Radiation.

[FR Doc. 2016-02956 Filed 2-11-16; 8:45 am]

BILLING CODE 6560-50-P.